NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by March 21, 2011. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant; Permit Application No. 2011-023. Joseph Levy, Department of Geology, Portland State University, P.O. Box 751, Portland, OR 97207-0751.

Activity for Which Permit Is Requested

Take and Import into the USA. The applicant plans to enter the Garwood Valley to collect algal mats from sediment outcrops where exposed, and from the surface of ponds. The applicant also plans to collect mummified Crabeater seal skin samples in Garwood Valley. Skin samples will be less than 20g each. The goal of the project is to define the rate of geomorphic change in Garwood Valley in response to changing climate conditions. The geomorphic record will be reconstructed over the past 1- = 2-kyr to infer past climate-driven landscape alteration at the end of the LGM and examine the current episode of landscape changes, including assessing the thermal equilibrium of buried massive ice. The past and current geomorphic changes will be used as a guide for predicting landscape response in the Dry Valleys should the >130 km² of ice-cored terrain in the valleys also begin to melt. Paired measurements of ¹⁴ C (from algal mats) and U/Th age (from carbon layers bracketing the algal mats), as well as ¹⁴ C ages with OSL ages (for near-surface mats), these seal ¹⁴ C dates will provide a correction factor for dealing with carbon input of certain provenance. The presence of multiple mats/carbonate beds/seals in Garwood Valley sediments will permit characterization of “old” carbon input over time into the sedimentary system.

Location

Garwood Valley, Dry Valleys.

Dates

January 1, 2011 to February 1, 2014.

Nadene G. Kennedy,
Permit Officer, Office of Polar Programs.

[FR Doc. 2011-3669 Filed 2-17-11; 8:45 am]

BILLING CODE 7555-01-P